DEPARTMENT OF HEALTH AND HUMAN SERVICES

National Institutes of Health

Center for Scientific Review; Amended Notice of Meeting

Notice is hereby given of a change in the meeting of the Tumor Microenvironment Study Section, June 24, 2019, 08:00 a.m. to June 25, 2019, 05:00 p.m., The Crowne Plaza Seattle, 1113 6th Avenue, Seattle, WA 98101 which was published in the Federal Register on May 28, 2019, 84 FR 24528.

The meeting will now be held at the Renaissance Seattle Hotel, 515 Madison Street, Seattle, WA 98104. The meeting date and time remain the same. The meeting is closed to the public.

Dated: June 14, 2019.
Ronald J. Livingston, Jr.,
Program Analyst, Office of Federal Advisory Committee Policy.

[FR Doc. 2019-13024 Filed 6-18-19; 8:45 am]

BILLING CODE 4140-01-P